DEPARTMENT OF AGRICULTURE

Animal and Plant Health Inspection Service

[Docket No. APHIS-2010-0029]

Availability of an Environmental Assessment for a Biological Control Agent for Hemlock Woolly Adelgid

AGENCY: Animal and Plant Health Inspection Service, USDA.

ACTION: Notice of availability and request for comments.

SUMMARY: We are advising the public that the Animal and Plant Health Inspection Service has prepared an environmental assessment relative to the control of hemlock woolly adelgid (Adelges tsugae). The environmental assessment considers the effects of, and alternatives to, the release of an insect, Laricobius osakensis, into the continental United States for use as a biological control agent to reduce the severity of hemlock woolly adelgid infestations. We are making the environmental assessment available to the public for review and comment.

DATES: We will consider all comments that we receive on or before June 21, 2010.

ADDRESSES: You may submit comments by either of the following methods:

• Federal eRulemaking Portal: Go to (http://www.regulations.gov/fdmspublic/component/main?main=DocketDetail&d=APHIS-2010-0029) to submit or view comments and to view supporting and related materials available electronically.

•Postal Mail/Commercial Delivery: Please send one copy of your comment to Docket No. APHIS-2010-0029, Regulatory Analysis and Development, PPD, APHIS, Station 3A-03.8, 4700 River Road Unit 118, Riverdale, MD 20737-1238. Please state that your comment refers to Docket No. APHIS-2010-0029.

Reading Room: You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Dr. Shirley A. Wager-Page, Chief, Pest Permitting Branch, PPQ, APHIS, 4700 River Road Unit 133, Riverdale, MD 20737-1237; (301) 734-8453.

SUPPLEMENTARY INFORMATION:

Background

The Animal and Plant Health Inspection Service (APHIS) is proposing to issue permits for the release of an insect, Laricobius osakensis, into the continental United States for use as a biological control agent to reduce the severity of hemlock woolly adelgid (HWA) infestations.

HWA, an introduced insect pest destructive to forest and ornamental hemlock trees, was first discovered in Virginia in 1951. HWA now infests 18 States due to the movements of infested nursery plants as well as non-human modes of dispersal that include birds, deer, and wind. HWA feeds at the bases of hemlock needles, causing them to dry out and resulting in needle loss. This prevents trees from producing new buds for the next year’s growth, and leads to branch dieback and, often, the eventual death of the tree. HWA infestation is fatal to eastern hemlocks of all ages, regardless of health prior to infestation, with tree mortality occurring between four and ten or more years after infestation, depending on environmental conditions.

Existing HWA management options include chemical control and silvicultural control, which, in this instance, would involve close management of trees on a site-by-site basis. However, these management measures can be expensive, temporary, or have non-target impacts. Thus, a permit application has been submitted to APHIS for the purpose of releasing an insect, L. osakensis, into the continental United States for use as a biological control agent to reduce the severity of HWA infestations.

APHIS’ review and analysis of the proposed action are documented in detail in an environmental assessment (EA) titled “Proposed Field Release of Laricobius osakensis (Coleoptera: Derodontidae), a Predatory Beetle for Biological Control of Hemlock Woolly Adelgid (Adelges tsugae), in the Continental United States” (December 2009). We are making the EA available to the public for review and comment. We will consider all comments that we receive on or before the date listed under the heading DATES at the beginning of this notice.

The EA may be viewed on the Regulations.gov Web site or in our reading room (see ADDRESSES above for instructions for accessing Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS’ NEPA Implementing Procedures (7 CFR part 372).

Done in Washington, DC, this 14th day of May 2010.

Kevin Shea,
Acting Administrator, Animal and Plant Health Inspection Service.

[FR Doc. 2010-12024 Filed 5-19-10; 8:45 am]

BILLING CODE 3410-34-S